DEPARTMENT OF AGRICULTURE

Grain Inspection, Packers and Stockyards Administration

9 CFR Part 201

RIN 0580-AB27

Unfair Practices and Undue Preferences in Violation of the Packers and Stockyards Act

AGENCY: Grain Inspection, Packers and Stockyards Administration, USDA

ACTION: Proposed rule: Extension of comment period.

SUMMARY: Consistent with the memorandum of January 20, 2017, to the heads of executive departments and agencies from the Assistant to the President and Chief of Staff entitled “Regulatory Freeze Pending Review,” the Department of Agriculture's Grain Inspection, Packers and Stockyards Administration (GIPSA) is extending by 30 days the public comment period for this proposed rule, which was published on December 20, 2016. This proposed rule would clarify the conduct or action by packers, swine contractors, or live poultry dealers that GIPSA considers unfair, unjustly discriminatory, or deceptive and a violation of section 202(a) of the Packers and Stockyards Act, 1921, as amended and supplemented (P&S Act). This proposed rule would also identify criteria that the Secretary would consider in determining whether conduct or action by packers, swine contractors, or live poultry dealers constitutes an undue or unreasonable preference or advantage and a violation of section 202(b) of the P&S Act.

DATES: The comment period for the proposed rule published at 81 FR 92723 on December 20, 2016 is extended. Comments must be received on or before March 24, 2017.

ADDRESSES: We invite you to submit comments on this proposed rule by any of the following methods:

• Mail: M. Irene Omade, GIPSA, USDA, 1400 Independence Avenue SW., Room 2542A-S, Washington, DC 20250-3613.

• Hand Delivery or Courier: M. Irene Omade, GIPSA, USDA, 1400 Independence Avenue SW., Room 2530-S, Washington, DC 20250-3613.

• Internet: http://www.regulations.gov. Follow the on-line instructions for submitting comments.

Instructions: All comments should make reference to the date and page number of this issue of the Federal Register. All comments received will be included in the public docket without change, including any personal information provided. Regulatory analyses and other documents relating to this rulemaking will be available for public inspection in Room 2542A-S, 1400 Independence Avenue SW., Washington, DC 20250-3613 during regular business hours. All comments will be available for public inspection in the above office during regular business hours (7 CFR 1.27(b)). Please call the Management and Budget Services staff of GIPSA at (202) 720-8479 to arrange a public inspection of comments or other documents related to this rulemaking.

FOR FURTHER INFORMATION CONTACT: S. Brett Offutt, Director, Litigation and Economic Analysis Division, P&SP, GIPSA, 1400 Independence Ave. SW., Washington, DC 20250, (202) 720-7051, s.brett.offutt@usda.gov.

SUPPLEMENTARY INFORMATION: Consistent with the memorandum of January 20, 2017, to the heads of executive departments and agencies from the Assistant to the President and Chief of Staff entitled “Regulatory Freeze Pending Review,” GIPSA is extending by 30 days the public comment period of the proposed rule entitled “Unfair Practices and Undue Preferences in Violation of the Packers and Stockyards Act” that was published in the Federal Register on December 20, 2016, (81 FR 92703).

This proposed rule would make two changes to the regulation issued under P&S Act. The first clarifies the conduct or action by packers, swine contractors, or live poultry dealers that GIPSA considers unfair, unjustly discriminatory, or deceptive and a violation of section 202(a) of the P&S Act. The second provides criteria, in response to requirements of the 2008 Farm Bill, to consider in determining whether a packer, swine contractor, or live poultry dealer has engaged in conduct resulting in an undue preference or advantage to one or more livestock producers or poultry growers in violation of § 202(b) of the P&S Act.

Authority: 7 U.S.C. 181-229c.

Marianne Plaus,
Acting Administrator, Grain Inspection, Packers and Stockyards Administration.

[FR Doc. 2017-02495 Filed 2-6-17; 8:45 am]

BILLING CODE 3410-KD-P